DEPARTMENT OF DEFENSE

Department of the Air Force

Acceptance of Group Application Under Public Law 95-202 and Department of Defense Directive (DODD) 1000.20; “North Korean Civilian Partisans Recruited, Trained, and Commanded for Military Operations by the U.S. Eighth Army, 8240th Army Unit Far East Liaison Detachment, on the Korean Peninsula and Accompanying Islands From January 15, 1951, Through July 27, 1953”

Under the provisions of section 401, Public Law 95-202 and DoD Directive 1000.20, the Department of Defense Civilian/Military Service Review Board has accepted an application on behalf of a group know as: “North Korean Civilian Partisans Recruited, Trained, and Commanded for Military Operations by the U.S. Eighth Army, 8240th Army Unit Far East Liaison Detachment, on the Korean Peninsula and Accompanying Islands From January 15, 1951, Through July 27, 1953.”

Persons with information or documentation pertinent to the determination of whether the service of this group should be considered active military service to the Armed Forces of the United States are encouraged to submit such information or documentation within 60 days to the DoD Civilian/Military Service Review Board, 1535 Command Drive, EE-Wing, 3rd Floor, Andrews AFB, MD 20762-7002. Copies of documents or other materials submitted cannot be returned.

Pamela D. Fitzgerald,
Air Force Federal Register Liaison Officer.

[FR Doc. 04-19701 Filed 8-27-04; 8:45 am]

BILLING CODE 5001-05-P